DEPARTMENT OF AGRICULTURE

Animal and Plant Health Inspection Service

9 CFR Part 93

[Docket No. 00-112-1]

Cattle From Mexico

AGENCY: Animal and Plant Health Inspection Service, USDA.

ACTION: Proposed rule.

SUMMARY: We are proposing to amend the animal importation regulations to prohibit the importation of Holstein cross steers and Holstein cross spayed heifers from Mexico. The regulations currently prohibit the importation of Holstein steers and Holstein spayed heifers from Mexico due to the high incidence of tuberculosis in that breed, but do not place any special restrictions on the importation of Holstein cross steers and Holstein cross spayed heifers from Mexico. Given that the incidence of tuberculosis in Holstein cross steers and Holstein cross spayed heifers from Mexico is comparable to the incidence of tuberculosis in Holstein steers and Holstein spayed heifers, this action is necessary to protect the health of domestic livestock in the United States.

DATES: We will consider all comments that we receive on or before August 4, 2003.

ADDRESSES: You may submit comments by postal mail/commercial delivery or by e-mail. If you use postal mail/commercial delivery, please send four copies of your comment (an original and three copies) to: Docket No. 00-112-1, Regulatory Analysis and Development, PPD, APHIS, Station 3C71, 4700 River Road Unit 118, Riverdale, MD 20737-1238. Please state that your comment refers to Docket No. 00-112-1. If you use e-mail, address your comment to regulations@aphis.usda.gov. Your comment must be contained in the body of your message; do not send attached files. Please include your name and address in your message and “Docket No. 00-112-1” on the subject line.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. Roger Perkins, Senior Staff Veterinarian, Animals Program, National Center for Import and Export, VS, APHIS, 4700 River Road Unit 39, Riverdale, MD 20737-1231; (301) 734-8419.

SUPPLEMENTARY INFORMATION:

Background

The regulations in 9 CFR part 93 prohibit or restrict the importation of certain animals, birds, and poultry into the United States to prevent the introduction of communicable diseases of livestock and poultry. Subpart D of part 93 (§§ 93.400 through 93.435, referred to below as the regulations) governs the importation of ruminants. Section 93.427 of the regulations contains restrictions on the importation of ruminants from Mexico.

Bovine tuberculosis is an infectious disease caused by the bacterium Mycobacterium bovis. Although commonly defined as a chronic debilitating disease, bovine tuberculosis can occasionally assume an acute, rapidly progressive course. Any body tissue can be affected, but lesions are most frequently observed in the lymph nodes, lungs, intestines, liver, spleen, pleura, and peritoneum. Although cattle are considered to be the true hosts of M. bovis, the disease has been reported in several other species of both domestic and nondomestic animals.

Since May 1994, the regulations in § 93.427 have prohibited the importation of Holstein steers and Holstein spayed heifers from Mexico. Holstein steers and spayed heifers are much more likely to be infected with tuberculosis than other breeds of cattle, due to the fact that they almost always originate from or are raised on dairy farms, where animals are kept in close proximity, typically for several years. Because dairy cattle ¹ are kept in such close proximity for extended periods of time, the potential for cattle infected with tuberculosis to transmit the disease to other cattle is considerably higher than for non-dairy cattle.

¹ The regulations specifically address Holstein dairy cattle because few other breeds of dairy cattle are imported into the United States from Mexico.

Holstein cross steers and Holstein cross spayed heifers are typically raised under the same type of conditions in Mexico as purebred Holstein steers and Holstein spayed heifers. For that reason, Holstein cross steers and Holstein cross spayed heifers from Mexico present essentially the same tuberculosis risk as purebred Holstein steers and Holstein spayed heifers from Mexico. We are, therefore, proposing to prohibit the importation of Holstein cross steers and Holstein cross spayed heifers from Mexico.

In our May 1994 final rule prohibiting the importation of Holstein steers and spayed heifers from Mexico, we did not prohibit the importation of Holstein cross steers and spayed heifers due to the fact that few Holstein cross steers and spayed heifers were being imported at the time. However, the volume of imported Mexican Holstein cross-bred cattle has increased significantly since 1997. Data on number of imports of cattle are available, but do not accurately distinguish between breeds, especially cross-breeds, or between sexually intact cattle and spayed or neutered cattle. However, the available import data, coupled with observations by APHIS personnel at ports of entry, suggest that imports of Holstein cross steers and spayed heifers have doubled or tripled since 1997.

Currently, all areas of the United States are considered to be free of tuberculosis except for Texas, Michigan, and California. Given the increased volumes of Holstein cross cattle that are being imported from Mexico and the tuberculosis risk presented by those animals, we are proposing to prohibit the importation of Holstein cross steers and spayed heifers from Mexico in order to eliminate a pathway for the introduction of tuberculosis into the United States.

Executive Order 12866 and Regulatory Flexibility Act

This proposed rule has been reviewed under Executive Order 12866. The rule has been determined to be not significant for the purposes of Executive Order 12866 and, therefore, has not been reviewed by the Office of Management and Budget.

We are proposing to amend the animal importation regulations to prohibit the importation of Holstein cross steers and Holstein cross spayed heifers from Mexico. The regulations currently prohibit the importation of Holstein steers and Holstein spayed heifers from Mexico due to the high incidence of tuberculosis in that breed, but do not place any special restrictions on the importation of Holstein cross steers and Holstein cross spayed heifers from Mexico. Given that the incidence of tuberculosis in Holstein cross steers and Holstein cross spayed heifers from Mexico is comparable to the incidence of tuberculosis in Holstein steers and Holstein spayed heifers, this action is necessary to protect the health of domestic livestock in the United States.

Given the size of U.S. livestock inventories and the volume of animal and animal product sales, consequences of a large tuberculosis outbreak in the United States could be catastrophic. Cattle in U.S. herds in 2000 were valued at $67 billion, with 1999 cash receipts of $36.5 billion from the sale of cattle, calves, beef, and veal. Cash receipts from the sale of milk and cream in 1999 reached $23.2 billion. The value of fresh beef and veal exports by the United States totaled $2.7 billion in 1999 and $3 billion in 2000. A widespread tuberculosis outbreak in the United States could potentially cause significant production and trade losses.

Economic Effects of the Proposed Rule

As shown in table 1, the value of cattle imported from Mexico in 1998 through 2001 represented less than 1 percent of the value of the total U.S. domestic cattle supply.

Table 1.—Value of U.S. Supply and Imports of Live Cattle in Comparison to Value of Cattle Imported From Mexico Mexican
Year | U.S. imports of live cattle from Mexico (millions) | U.S. supply of live cattle ¹ (millions) | Mexican imports as a share of total U.S. cattle supply (percent) | U.S. imports of live cattle from the world (millions) | Mexican imports as a share of total U.S. imports (percents)
1998 | $208.54 | $61,193.11 | 0.3 | $1,162.87 | 18
1999 | 296.46 | 59,681.54 | 0.5 | 1,021.81 | 29
2000 | 405.56 | 67,985.32 | 0.6 | 1,157.49 | 35
2001 | 411.00 | 71,707.06 | 0.6 | 1,482.21 | 28
¹ Supply = Domestic production + Imports − Exports).

Sources: Imports and Exports: U.S. Department of Commerce, Bureau of the Census, as reported by the World Trade Atlas. Domestic production from Table 7-1, Chapter VII, Agricultural Statistics 2000, NASS/USDA.

Further, as shown in table 2, the volume of U.S. imports of live cattle from Mexico has generally increased since 1997. Imports of Holstein cross-bred steers and spayed heifers have generally increased during the same period.

Table 2.—Number of Live Cattle Imported into the United States From Mexico and the World
| 1997 | 1998 | 1999 | 2000 | 2001
Imports from Mexico | 653,798 | 703,412 | 458,188 | 1,183,227 | 1,141,368
Imports from all other countries | 2,083,493 | 2,036,746 | 1,949,566 | 2,191,199 | 2,439,200

Source: FAOSTAT electronic databases for “all cattle breeds” category of imports.

Effect on Small Entities

Under the Regulatory Flexibility Act, agencies are required to analyze the economic effects of their regulations on small businesses and to use flexibility to provide regulatory relief when regulations create economic disparities between different-sized entities. According to the Small Business Administration's Office of Advocacy, regulations create economic disparities based on size when they have a significant economic impact on a substantial number of small entities.

U.S. livestock importers, breeders, and producers would be the entities that could be directly affected if this proposed rule is adopted. There are no specific data available on numbers of cattle importers; however, there are approximately 2,000 wholesale livestock traders (North American Industry Classification System [NAICS] code 422520), many of whom may also be cattle importers. It is likely that the majority of these firms are small entities according to the Small Business Administration's (SBA's) criterion of 100 or fewer employees. There are approximately 1 million livestock producers and breeders (NAICS code 112111) in the United States, approximately 99 percent of which are small entities according to SBA's criterion of annual receipts of $750,000 or less.

However, given that (1) imported Mexican cattle account for less than 1 percent of the value of the U.S. cattle supply, and (2) the volume of Holstein cross steers and spayed heifers imported from Mexico is believed to represent a small fraction of total cattle imports from Mexico, we expect that the economic effects on the U.S. livestock industry of the prohibition would be negligible. The proposed prohibition also would not have a significant effect on U.S. cattle importers, breeders, or producers because such persons could easily substitute other breeds of cattle for Mexican Holstein cross steers and spayed heifers.

This proposed prohibition on the importation of Holstein cross steers and spayed heifers would benefit the U.S. livestock industry and U.S. consumers by helping to prevent the introduction of tuberculosis into the United States.

Under these circumstances, the Administrator of the Animal and Plant Health Inspection Service has determined that this action would not have a significant economic impact on a substantial number of small entities.

Executive Order 12988

This proposed rule has been reviewed under Executive Order 12988, Civil Justice Reform. If this proposed rule is adopted: (1) All State and local laws and regulations that are inconsistent with this rule will be preempted; (2) no retroactive effect will be given to this rule; and (3) administrative proceedings will not be required before parties may file suit in court challenging this rule.

Paperwork Reduction Act

This proposed rule contains no information collection or recordkeeping requirements under the Paperwork Reduction Act of 1995 (44 U.S.C. 3501 et seq.).

List of Subjects in 9 CFR Part 93

Animal diseases, Imports, Livestock, Poultry and poultry products, Quarantine, Reporting and recordkeeping requirements.

Accordingly, we propose to amend 9 CFR part 93 as follows:

PART 93—IMPORTATION OF CERTAIN ANIMALS, BIRDS, AND POULTRY, AND CERTAIN ANIMAL, BIRD, AND POULTRY PRODUCTS; REQUIREMENTS FOR MEANS OF CONVEYANCE AND SHIPPING CONTAINERS

1. The authority citation for part 93 would continue to read as follows:

Authority: 7 U.S.C. 1622 and 8301-8317; 21 U.S.C. 136 and 136a; 31 U.S.C. 9701; 7 CFR 2.22, 2.80, and 371.4

.

2. In § 93.427, paragraph (c)(4) would be revised to read as follows:

§ 93.427 Cattle from Mexico.

* * * * *

(c) * * *

(4) The importation of Holstein steers, Holstein spayed heifers, Holstein cross steers, and Holstein cross spayed heifers from Mexico is prohibited.

* * * * *

Done in Washington, DC, this 29th day of May, 2003.
Peter Fernandez,
Acting Administrator, Animal and Plant Health Inspection Service.

[FR Doc. 03-13838 Filed 6-2-03; 8:45 am]

BILLING CODE 3410-34-P